DEPARTMENT OF DEFENSE

Department of the Army; Corps of Engineers

Intent To Prepare an Environmental Impact Statement for the Proposed University of California Merced and University Community Project, Corps Permit Application Number 199900203

AGENCY: Department of the Army, U.S. Army Corps of Engineers, DOD.

ACTION: Notice of intent.

SUMMARY: The University of California, Merced (University) and University Community Land Company (UCLC) LLC have submitted an application to the U.S. Army Corps of Engineers (Corps) under the Clean Water Act Section 404 and River and Harbor Act Section 10 for a proposal to construct an approximately 810-acre campus and an associated University Community in Merced County. The Proposed Action is located in eastern Merced County, east of Lake Road and Yosemite Lake, approximately 2 miles northeast of the City of Merced, California.

The Proposed Action consists of three major components: the 810-acre Campus; the 870-acre Community North; and the 1,245-acre Community South. The University controls the land that comprises the campus. University Community Land Company, LLC (UCLC), a not-for-profit corporation, owns the land that comprises Community North. LWH Farms, LLC owns the land that comprises Community South. The University is currently preparing an amendment to its Long Range Development Plan to guide the development of the proposed campus. The proposed campus and Community North would consist of the following five districts: Academic Core; Gateway District; Student Neighborhoods; University Community Town Center; and University Community Neighborhoods. Community South would be developed in accordance with the previously adopted University Community Plan, which designates the Community South area for Multiple Use Urban Development and agricultural uses.

The Campus and the northern portion of the University Community would affect 76.6 acres of the waters of the United States, including vernal pools and other wetlands. The primary federal involvement is the fill materials within waters of the United States, work and structures in affecting navigable waters of the United States, and potential impacts on the human environment from such activities.

DATES: The Corps and the University will jointly conduct a public scoping meeting that will be held on Wednesday April 23, 2008.

ADDRESSES: The scoping meeting will be held in the California Room at UC Merced, located at 5200 N. Lake Road, Merced, CA 95340.

FOR FURTHER INFORMATION CONTACT: Ms. Nancy Haley, (916) 557-7731, e-mail: ucmerced@usace.army.mil.

SUPPLEMENTARY INFORMATION: Interested parties are invited to submit written comments on the permit application on or before April 28, 2008. Scoping comments should be submitted within the next 60 days, but may be submitted at any time prior to publication of the Draft EIS. To submit comments on this notice or for questions about the proposed action and the Draft EIS, please contact Nancy Haley, 1325 J Street (Room 1480), Sacramento, CA 95814-2922. Parties interested in being added to the Corps' electronic mail notification list for the University can register at: http://www.spl.usace.army.mil/regulatory/register.html. Please refer to Identification Number 200601050 in any correspondence.

The University and UCLC have submitted an application for a Department of the Army permit. Because the campus and Community North are immediately adjacent to each other, the land use planning of these two areas is closely integrated and the actions are connected. The overall purpose of the Proposed Action is to establish a major research university in Merced County that would ultimately support 25,000 full-time equivalent students with an associated community needed to support the university. Projections by the California Department of Finance and the University indicated that a new campus is needed to accommodate near-term enrollment demand and an enrollment of 25,000 students in the long term. An adjacent community is needed to support the university by providing housing and other amenities.

To comply with the National Environmental Policy Act (NEPA), the Corps is requiring the preparation of an EIS prior to rendering a final decision on the University and UCLC's permit application. The Corps may ultimately make a determination to permit or deny the Proposed Action or permit or deny modified versions of the Proposed Action. The EIS will also provide the technical basis for the Corps to use in its preparation of its 404(b)(1) Guidelines compliance document as part of the Record of Decision (ROD). To comply with the requirements of the California Environmental Quality Act (CEQA), the University will prepare an Environmental Impact Report (EIR) for the UC Merced and University Community project. The Corps and the University have agreed to jointly prepare an EIS/EIR for the Proposed Action in order to optimize efficiency and avoid duplication.

The EIS/EIR will include alternatives to the Proposed Action that will meet both NEPA and CEQA requirements. The alternatives will also meet the requirements of CWA Section 404(b)(1) Guidelines. At this time it is expected that the joint EIS/EIR will evaluate the following alternatives: (1) No Action Alternative; (2) Proposed Action; (3) Yosemite Avenue Alternative (formerly referred to as Alternative 20); (4) Downtown Merced Alternative; (5) Bellevue Ranch Alternative (formerly referred to as Off-Site Alternative 2); (6) Previously Proposed Campus and Community; and (7) No Build Alternative.

The Corps' public involvement program includes several opportunities to provide oral and written comments. Affected federal, state, local agencies, Indian tribes, and other interested private organizations and parties are invited to participate. The EIS/EIR will address several potential environmental issues including: Impacts to waters of the United States, including vernal pools and other wetlands; aesthetics, agricultural resources; air quality, cultural resources; geology and soils; hazards and hazardous materials; hydrology and water quality; land use and planning; noise and vibration; navigation; public health and safety; public services and utilities; recreation; socioeconomics; traffic and transportation. Additional issues may be identified during the scoping process.

The Corps has initiated formal consultation with the U.S. Fish and Wildlife Service under Section 7 of the Endangered Species Act for federally threatened and endangered species that may be affected by the Proposed Action. In addition, the Corps will consult with the State Historic Preservation Officer under Section 106 of the National Historic Preservation Act regarding potential impacts to sites listed, or eligible for listing, on the National Register for Historic Places.

The joint lead agencies expect the Draft EIS/EIR to be made available to the public in August, 2008. A public hearing will be held during the public comment period for the Draft EIS/EIR.

Dated: March 27, 2008.
James A. Porter,
Lieutenant Colonel, U.S. Army, Deputy District Enginee.

[FR Doc. E8-7315 Filed 4-7-08; 8:45 am]

BILLING CODE 3710-EH-P